DEPARTMENT OF THE INTERIOR

Bureau of Land Management

[AK-930-1310-EI]

Notice of Intent To Hold Oil and Gas Lease Sale 2002; National Petroleum Reserve—Alaska

AGENCY: Bureau of Land Management, Interior.

ACTION: Notice.

SUMMARY: National Petroleum Reserve-Alaska (NPR-A); Notice of Intent to Hold Oil and Gas Lease Sale 2002 in the NPR-A. This Notice of Intent is published as a matter of information to the public.

FOR FURTHER INFORMATION CONTACT: Bob Merrill or Gene Terland, BLM Alaska State Office, 907-271-3833.

SUPPLEMENTARY INFORMATION: The lands proposed for leasing in this sale will be limited to a reoffering of those lands which were made available but not leased in Sale 991 on May 5, 1999, so we are not issuing a new call for Nominations and Comments on tracts for this sale. The tracts will be renumbered. Some modifications may be made regarding tract potential and tract delineations. Therefore, the minimum bids, rentals, royalties, and tract sizes for those lands may be increased or decreased. Despite such changes, all of the unleased lands will be reoffered.

A Proposed Notice of Sale will be published in the Federal Register at least 60 days prior to the date of bid opening. That publication will also announce the availability of the Detailed Statement of Sale and where copies may be obtained. Compliance with all applicable environmental laws and regulations will be ensured before the sale is held. The Secretary of the Interior will also provide the State of Alaska and the North Slope Borough the opportunity to review the 2002 Detailed Statement of Sale in regard to, among other things, Coastal Zone Management review.

The Final Notice of Sale will be published in the Federal Register at least 30 days prior to the date of bid opening. Bid opening is tentatively scheduled for June 2002.

Francis R. Cherry, Jr.,
State Director, Alaska.

[FR Doc. 01-12513 Filed 5-17-01; 8:45 am]

BILLING CODE 4310-JA-P